Proclamation 8249 of April 29, 2008

National Physical Fitness and Sports Month, 2008

By the President of the United States of America

A Proclamation

Health and fitness are personal responsibilities and important national goals for our citizens. During National Physical Fitness and Sports Month, we highlight the benefits of exercise and the value of participating in sports.

It is important for all Americans to participate in activities that help maintain a healthy lifestyle. Outdoor activities such as walking, running, swimming, and biking are good for the mind, body, and soul. Regular physical activity and healthy eating habits can help reduce stress and lower the risk for many chronic health conditions such as heart disease, diabetes, and depression.

My Administration is committed to encouraging all Americans to remain physically active. Through the President's Council on Physical Fitness and Sports, the National President's Challenge allows participants of all ages to set a fitness goal and keep track of their progress as they work to achieve it. To get more information, or to sign up to participate, people can visit presidentschallenge.org. By getting involved and exercising for 30 minutes a day, 5 days a week, Americans can improve their health and happiness and set a positive example for others.

During National Physical Fitness and Sports month and throughout the year, I encourage all Americans to make physical fitness a priority in their lives.

NOW, THEREFORE, I, GEORGE W. BUSH, President of the United States of America, by virtue of the authority vested in me by the Constitution and laws of the United States, do hereby proclaim May 2008 as National Physical Fitness and Sports Month. I call upon my fellow citizens to recognize the importance of exercise and participate in athletic activities. I also encourage individuals, schools, and communities to celebrate this month with appropriate activities and programs.

IN WITNESS WHEREOF, I have hereunto set my hand this twenty-ninth day of April, in the year of our Lord two thousand eight, and of the Independence of the United States of America the two hundred and thirty-second.

[FR Doc. 08-1210

Filed 4-30-08; 11:26 am]

Billing code 3195-01-P